INTERNATIONAL TRADE COMMISSION

[Investigation No. 337-TA-1113]

Certain Submarine Telecommunication Systems and Components Thereof; Commission Determination Not To Review an Initial Determination Granting an Unopposed Motion To Terminate the Investigation; Termination of the Investigation

AGENCY: U.S. International Trade Commission.

ACTION: Notice.

SUMMARY: Notice is hereby given that the U.S. International Trade Commission has determined not to review an initial determination (“ID”) (Order No. 19) of the presiding administrative law judge (“ALJ”) granting an unopposed motion to terminate the investigation based on withdrawal of the complaint.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on May 23, 2018, based on a complaint, filed on behalf of NEC Corporation of Tokyo, Japan and NEC Corporation of America of Irving, Texas (“complainants”). 83 FR 23936-37 (May 23, 2018). The complaint alleges violations of section 337 based upon the importation into the United States, the sale for importation, and the sale within the United States after importation of certain submarine telecommunication systems and components thereof by reason of infringement of certain claims of U.S. Patent 8,244,131. The Notice of Institution named Xtera, Inc. of Allen, Texas; MC Assembly, LLC of Melbourne, Florida; and MC Test Services, Inc. of Melbourne, Florida as respondents. The Office of Unfair Import Investigations (“OUII”) was named as a party.

On October 26, 2018, complainants filed a motion to withdraw the complaint and suspend the procedural schedule pending final termination of the investigation. OUII and respondents did not oppose the motion.

On October 29, 2018, the ALJ issued the subject ID (Order No. 19) granting complainants' motion. The ALJ found that no extraordinary circumstances prevent the termination of the investigation. No petitions for review were filed.

The Commission has determined not to review the ID. The investigation is terminated.

The authority for the Commission's determination is contained in section 337 of the Tariff Act of 1930, as amended (19 U.S.C. 1337), and in part 210 of the Commission's Rules of Practice and Procedure (19 CFR part 210).

By order of the Commission.
Issued: November 28, 2018.
Lisa Barton,
Secretary to the Commission.

[FR Doc. 2018-26180 Filed 11-30-18; 8:45 am]

BILLING CODE 7020-02-P